DEPARTMENT OF TRANSPORTATION

Federal Railroad Administration

[Docket Number FRA-2011-0038]

Petition for Waiver of Compliance

In accordance with Part 211 of Title 49 of the Code of Federal Regulations (CFR), this document provides the public notice that by a document dated May 3, 2011, Penn Valley Railroad LLC, has petitioned the Federal Railroad Administration (FRA) for a waiver of compliance from certain provisions of the Federal railroad safety regulations contained at 49 CFR Parts 215 and 223. FRA assigned the petition Docket Number FRA-2011-0038.

The Penn Valley Railroad LLC seeks a waiver of compliance from certain provisions of the Railroad Freight Car Safety Standards, 49 CFR 215.303, which requires stenciling; and Safety Glazing Standards, 49 CFR part 223, which requires certified glazing in all windows.

This request is for a caboose, Car Number PRR 478044 (built in April, 1951). The Penn Valley Railroad LLC states that this caboose is operated in irregular seasonal events for community-sponsored excursion service on the lines owned by the SEDA COG joint Rail Authority. Specifically, this caboose will be operated on the following SEDA COG Joint Rail Authority lines of NBER (64 miles), LVRR (34 miles), NSHR (38 miles), and SVRR (25 miles).

The Penn Valley Railroad LLC states that this caboose is completely restored with a sound car body, including ABDX airbrakes and roller bearings. The car had a thorough mechanical inspection and COT&S performed by the Strasburg Railroad in November, 2010. The car will not be interchanged with any other railroad, and will be operated at a speed limit of 30 miles per hour.

This caboose is painted and stenciled to reflect its historic appearance. Stenciling the car to meet Section 215.303 requirements would detract from the historical and educational impression this car is intended to preserve.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by August 15, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 23, 2011.
Robert C. Lauby,
Deputy Associate Administrator for Regulatory & Legislative Operations.

[FR Doc. 2011-16409 Filed 6-29-11; 8:45 am]

BILLING CODE 4910-06-P